DEPARTMENT OF THE TREASURY

Agency Information Collection Activities; New Proposed Information Collection Request; Request for Comments; Digital Asset Proceeds From Broker Transactions

AGENCY: Departmental Offices, U.S. Department of the Treasury.

ACTION: Notice.

SUMMARY: The Internal Revenue Service, as part of its continuing effort to reduce paperwork and respondent burden, invites the general public and other Federal agencies to take this opportunity to comment on continuing information collections, as required by the Paperwork Reduction Act of 1995. The IRS is soliciting comments concerning information collection requirements related to digital asset proceeds from broker transactions.

DATES: Comments should be received on or before November 6, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

Title: Digital Asset Proceeds from Broker Transactions.

OMB Number Control No.: 1545-NEW.

Form Numbers: 1099-DA.

Abstract: Form 1099-DA is used by brokers to report proceeds from (and in some cases, basis for) digital asset dispositions to taxpayers and to the IRS (Internal Revenue Code section 6045(a)). Taxpayers may be required to recognize gain from these dispositions of digital assets. Reporting is also required when brokers know or have reason to know that a corporation in which a taxpayer owns digital assets, that is also stock, has had a reportable change in control or capital structure. Taxpayers may be required to recognize gain from the receipt of cash, services, digital assets, or other property that was exchanged for a digital asset that is also the corporation's stock.

Type of Review: New collection.

Affected Public: Business or other for-profit organizations, individuals or households, and not-for-profit institutions.

Estimated Number of Respondents: 5,300.

Estimated Number of Responses per Respondents: 2,736.

Estimated Time per Response: 0.15 hours.

Estimated Total Annual Burden Hours: 2,252,500 hours.

Authority: U.S.C. 3501 et seq.

Melody Braswell,
Treasury PRA Clearance Officer.

[FR Doc. 2024-23118 Filed 10-4-24; 8:45 am]

BILLING CODE 4830-01-P